DEPARTMENT OF HEALTH AND HUMAN SERVICES

Centers for Disease Control and Prevention

Disease, Disability, and Injury Prevention and Control Special Emphasis Panel (SEP)—RFA-CE-20-001, Evaluating Practiced-Based Programs, Policies, and Practices From CDC's Rape Prevention Education Program; Amended Notice of Meeting

Notice is hereby given of a change in the meeting of the Disease, Disability, and Injury Prevention and Control Special Emphasis Panel (SEP)—RFA-CE-20-001, Evaluating Practiced-based Programs, Policies, and Practices from CDC's Rape Prevention Education Program; April 29-30, 2020, 8:30 a.m.-5:30 p.m., EDT, in the original FRN.

Embassy Suites Buckhead, 3285 Peachtree Road NE, Atlanta, Georgia 30305, which was published in the Federal Register on February 28, 2020, Volume 85, Number 40, pages 11992—11993.

The meeting is being amended to a virtual meeting. The meeting is closed to the public.

For Further Information Contact: Kimberly Leeks, Ph.D., M.P.H., Scientific Review Official, NCIPC, CDC, 4770 Buford Highway NE, Building 106, MS S106-9, Atlanta, Georgia 30341, Telephone: (770) 488-6562, KLeeks@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-05258 Filed 3-13-20; 8:45 am]

BILLING CODE 4163-18-P